DEPARTMENT OF HEALTH AND HUMAN SERVICES

Administration for Children and Families

Grants and Cooperative Agreements; Notice of Availability

Federal Agency Contact Name: Administration for Children and Families, Children's Bureau.

Funding Opportunity Title: Training of Child Welfare Agency Supervisors in the Effective Delivery and Management of Federal Independent Living Services.

Announcement Type: Competitive Grant—Initial.

Funding Opportunity Number: HHS-2004-ACF-ACYF-CT-0009.

CFDA Number: 93.674.

Due Date for Applications: The due date for receipt of applications is June 18, 2004.

I. Funding Opportunity Description

The Children's Bureau announces the availability of funds and requests applications to develop and implement a training curriculum for public child welfare agency supervisors.

This curriculum will strengthen supervision of staffs' interventions with older youth who are in foster care and/or in independent living programs. These youth, mostly age 16 to 21, need assistance in making a successful transition to adulthood, as well as help in avoiding long-term dependency on the social welfare system.

These youth often face decisions with regard to personal housing, transportation, employment and education. They need workers who can guide and understand these challenges. The target youth also need workers who have a grounding in the four core principles that have been identified as critical for adolescent transition programs to be successful. The principles are:

(1) Positive youth development;

(2) Collaboration;

(3) Cultural competence; and

(4) Permanent connections.

For more information on these principles contact the University of Oklahoma, National Resource Center for Youth Services at http://www.nrcys.ou.edu.

Child welfare supervisors must ensure that child welfare workers understand and utilize:

(1) Positive youth development philosophy;

(2) Client assessment;

(3) Age-appropriate intervention planning; and

(4) Implementation and evaluation of individualized Independent Living Program (ILP) training and program activities.

Training based on the curriculum should increase child welfare supervisor's ability to supervise a worker in:

(1) Assessing a youth's readiness for ILP services, support and training;

(2) Identifying culturally competent ILP program services and activities;

(3) Utilizing positive youth development principles for involving youth in decision-making, implementation and evaluation of training and program activities;

(4) Identifying areas of stress and its impact on youth in foster care;

(5) Working with youth to help them deal with crisis situations and to assess the results of the intervention;

(6) Working with youth to develop and maintain permanent connections; and

(7) Collaborating with both inter- and intra-agency resource people to achieve positive outcomes for youth transitioning to adulthood.

Background

In December 1999, Congress passed new independent living legislation, the John H. Chaffee Foster Care Independence Program. The new program provides States with increased funding and flexibility to help youth make the transition from foster care to self-sufficiency. Currently all 50 States, Puerto Rico and the District of Columbia have an ILP. Services and activities include educational and employment assistance, training in basic living skills (budgeting, housekeeping, food shopping, building and maintaining positive social relationships), counseling, housing, case management and outreach services. The new legislation allows the use of these funds for additional activities including room and board, age-appropriate services to youth younger than 16, post-secondary educational assistance and preventive health activities.

In addition, the Adoption and Safe Families Act of 1997 (ASFA) has had considerable impact on child welfare practice and how the goals of safety, permanency and well-being of youth must be accomplished. Thus, there is a need to refocus attention on practice approaches that give attention, as appropriate, to reunification with the biological parents, adoption, placement or other alternative approaches to permanency for youth of all ages. For many older foster care youth, permanency means learning to live independently. Even if they can spend time with family members, their chances for a successful transition to adulthood are greatly improved if they learn to count on themselves to address their daily challenges, and if they have the knowledge, skills and experience to do so.

Older youth in foster care need special help and support. As of September 30, 2002 there were an estimated 533,897 children in substitute/foster care. Of these children an estimated 39% were identified as being 13 years of age or older (AFCARS—Adoption and Foster Care Analysis and Reporting System—data as of October 2003). Approximately 20,000 youth age out of the system every year. These young people often have histories of significant abuse, neglect and multiple foster care placements. They often find themselves completely on their own after discharge, with few, if any, financial resources; limited education, training and employment options; no safe place to live; and little or no support from family, friends and community. A focus on the four core principles for these youth is crucial. The permanent connections work to help ground the youth in the community and provide a support system that these traumatized youth often lack. Collaborations help to ensure that a full array of services is available to the youth during and after their transition from care. A focus on positive youth development allows the youth to have the daily living skills needed to function on their own along with the knowledge to maintain their emotional health. Through the provision of culturally competent services, the agencies ensure that youth feel protected and connected in their environment. For more information on the four core principles see http://www.nrcys.ou.edu.

Training of child welfare supervisors has predominantly focused on supervising staff to meet generalized permanency needs while focusing on the family as a whole. Most of this work is still done in the context of family-centered services that build on family strengths and meet family needs. There is limited attention given to assessing problem situations from the youth's perspective and preparing a youth for independence and/or transitioning out of foster care. This training would focus on strategies for supervising the child welfare worker in how to identify the specific needs of teenagers as a separate entity in the family structure and develop a plan for achieving goals to meet those needs regardless of other permanency work being done in the family unit.

Specialized skills are essential to work effectively with older youth. Child welfare supervisors need training to understand youth development principles and strategies, to focus on giving young people age-appropriate opportunities to exercise leadership, build skills, and become involved in the decision-making about their future.

In January 2000, DHHS established the Child and Family Service Reviews (CFSR) that have enhanced monitoring of State child welfare programs. Previous approaches had not allowed for states to learn from their mistakes and make improvements accordingly. Meetings with stakeholders during CFSR indicate that foster parents, guardians and other primary care providers need youth development training. In addition, state agency staff need training and technical assistance in assisting youth in developing their case plan, and developing life-long connections that will assist them with permanency. Results of the 2002 reviews indicate that all of the states were found to need improvement in involving the family in case planning, assessing needs and providing services.

The Children's Bureau recognizes the need to involve young people in decision-making and planning for a life of independence. To accomplish this, service providers must offer specialized, age-appropriate support for these youth as they transition to adulthood. Training implemented under this program will provide child welfare supervisors with the training and tools needed to assist child welfare workers to help move their older youth through a successful transition to independence and achieving self-sufficiency.

II. Award Information

Funding Instrument Type: Grant.

Anticipated Total Funding: The anticipated total for all awards under this funding opportunity in FY2004 is $500,000.

Anticipated Number of Awards: It is anticipated that 3 projects will be funded.

Ceiling on Amount of Individual Awards: The grant amount will not exceed $166,667 in the first budget period. An application that exceeds the upper value dollar range specified will be considered “non-responsive” and be returned to the applicant without further review.

Floor of Individual Award Amounts: None.

Average Anticipated Award Amount: $166,667 per budget period.

Project Periods for Awards: The projects will be awarded for a project period of 36 months. The initial grant award will be for a 12-month budget period. The award of continuation funding beyond each 12-month budget period will be subject to the availability of funds, satisfactory progress on the part of the grantee, and a determination that continued funding would be in the best interest of the government.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

III. Eligibility Information

1. Eligible Applicants

State governments;

County governments;

City or township governments;

State controlled institutions of higher education;

Native American tribal governments (Federally recognized);

Non-profits having a 501(c)(3) status with the IRS, other than institutions of higher education;

Private institutions of higher education;

Faith-based and community organizations that meet all other eligibility requirements.

Additional Information on Eligibility: Institutions of higher education that choose to apply must have an accredited social work education program, or other accredited bachelor or graduate level programs leading to a degree relevant to work in child welfare. Government agencies must be child welfare agencies to be eligible to apply.

Applications that exceed the $166,667 ceiling will be considered non-responsive and will not be eligible for funding under this announcement.

2. Cost Sharing or Matching: The grantee must provide at least 25 percent of the total approved cost of the project. The total approved cost is the sum of the Federal share and the non-Federal share. Therefore, a project requesting $166,667 per budget period must include a match of at least $55,556 per budget period. Applicants should provide a letter of commitment verifying the actual amount of the non-Federal share of project costs.

The following example shows how to calculate the required 25% match amount for a $167,777 grant:

$166,667 (Federal share) divided by .75 (100%−25%) equals $222,223 (total project cost including match) minus $166,667 (Federal share) equals $55,556 (required 25% match).

Because this is a training grant, indirect costs for these projects shall not exceed 8 percent. Funds from this grant cannot be used to match title IV-E training funds.

The non-Federal share may be cash or in-kind contributions, although applicants are encouraged to meet their match requirements through cash contributions. If approved for funding, grantees will be held accountable for the commitment of non-Federal resources and failure to provide the required amount will result in a disallowance of unmatched Federal funds.

3. Other

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the http://www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Electronic Address Where Applications Will Be Accepted: Grants.gov.

Address Where Hard Copy Applications Will Be Accepted: Children's Bureau Grant Receipt Point, ACYF Operations Center, c/o The Group, Inc., 118 Q Street, NE., Washington, DC 20002-2132.

Each application must contain the following items in the order listed:

—Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check “New.”

In Item 10 of Form 424, clearly identify the Catalog of Federal Domestic Assistance (CFDA) program title and number for the program for which funds are being requested as stated at the end of this funding opportunity announcement.

In Item 11 of Form 424, identify the single funding opportunity the application addresses.

In Item 12 of Form 424, identify the specific geographic area to be served.

In Item 14 of Form 424, identify Congressional districts of both the applicant and project.

—Budget Information Non-Construction Programs (Form 424A) and Budget Justification.

Follow the instructions provided and those in the Uniform Project Description. Note that Federal funds provided to States and services or other resources purchased with Federal funds may not be used to match project grants.

Applicants have the option of omitting from application copies (not originals) specific salary rates or amounts for individuals specified in the application budget. The copies may include summary salary information.

—Certifications/Assurances. Applicants requesting financial assistance for nonconstruction projects must file the Standard Form 424B, ‘Assurances: Non-Construction Programs.’ Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

By signing the “Signature of Authorized Representative” on the SF 424, the applicant is providing a certification and need not mail assurances for completing the following grant and cooperative agreement requirements:

participation in any evaluation or technical assistance effort supported by ACYF;

submission of all required semi-annual and final Financial Status Reports (SF269) and Program Performance Reports in a timely manner, in hard-copy and electronic formats (preferably MS WORD and PDF) as negotiated with the Federal Project Officer; and

attendance of a key staff person and evaluator from the project at an annual 3-5 day grantees' meeting (to be determined by the Children's Bureau) in Washington, DC and at a “kick-off” meeting following award.

The Office for Human Research Protections of the U.S. Department of Health and Human Services provides website information and policy guidance on the Federal regulations pertaining to protection of human subjects (45 CFR 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable DHHS regulations can be found in 45 CFR Part 74 or 92.

—Project Abstract/Summary (one page maximum). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project. It should describe the objectives of the project, the approach to be used and the results or benefits expected.

—Project Description for Evaluation. Applicants should organize their project description according to the Evaluation Criteria described in this funding opportunity announcement providing information that addresses all the components.

—Proof of non-profit status.

—Indirect cost rate agreement. If claiming indirect costs, provide documentation that applicant currently has an indirect cost rate approved by the Department of Health and Human Services (HHS) or another cognizant Federal agency.

—Letters of agreement and memoranda of understanding. If applicable, include a letter of commitment or Memorandum of Understanding from each partner and/or sub-contractor describing their role, detailing specific tasks to be performed, and expressing commitment to participate if the proposed project is funded.

—Provide a letter of commitment verifying the actual amount of the non-Federal share of project costs.

—The application limit is 50 pages total including all forms and attachments. Submit one original and two copies.

To be considered for funding, each application must be submitted with the Standard Federal Forms (provided at the end of this announcement or through the electronic links provided) and following the guidance provided. The application must be signed by an individual authorized to act for the applicant agency and to assume responsibility for the obligations imposed by the terms and conditions of the grant award.

To be considered for funding, each applicant must submit one signed original and two additional copies of the application, including all forms and attachments, to the Application Receipt Point specified in the section titles Deadline at the beginning of the announcement. The original copy of the application must have original signatures, signed in black ink.

The application must be typed, double spaced, printed on only one side, with at least ½ inch margins on each side and 1 inch at the top and bottom, using standard 12 Point fonts (such as Times Roman or Courier). Pages must be numbered.

Pages over the page limit stated within this funding opportunity announcement will be removed from the application and will not be reviewed. All copies of an application must be submitted in a single package, and a separate package must be submitted for each funding opportunity. The package must be clearly labeled for the specific funding opportunity it is addressing.

Because each application will be duplicated, do not use or include separate covers, binders, clips, tabs. Plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Tips for Preparing a Competitive Application: It is essential that applicants read the entire announcement package carefully before preparing an application and include all of the required application forms and attachments. The application must reflect a thorough understanding of the purpose and objectives of the Children's Bureau's Chaffee Foster Care Independence Program. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant Web sites. Before you begin preparing an application, we suggest that you learn more about the mission and programs of the Children's Bureau by exploring the Web site.

Organizing Your Application: The specific evaluation criteria in Section V of this funding announcement will be used to review and evaluate each application. The applicant should address each of these specific evaluation criteria in the project description. It is strongly recommended that applicants organize their proposals in the same sequence and using the same headings as these criteria, so that reviewers can readily find information that directly addresses each of the specific review criteria.

Project Evaluation Plan: Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW., Washington, DC 20447; phone (800) 394-3366; fax (703) 385-3206; e-mail nccanch@calib.com.

Logic Model: A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

Use of Human Subjects: If your evaluation plan includes gathering data from or about clients, there are specific procedures which must be followed in order to protect their privacy and ensure the confidentiality of the information about them. Applicants planning to gather such data are asked to describe their plans regarding an Institutional Review Board (IRB) review. For more information about use of human subjects and IRB's you can visit these Web sites: http://ohrp.osophs.dhhs.gov/irb/irb_chapter2.htm#d2 and http://ohrp.osophs.dhhs.gov/humansubjects/guidance/ictips.htm.

3. Submission Dates and Times

The closing date for receipt of applications is 4:30 p.m. eastern standard time (e.s.t.) on June 18, 2004. Mailed applications received after the closing date will be classified as late.

Deadline: Mailed applications shall be considered as meeting an announced deadline if they are received on or before June 18, 2004 at the following address: ACYF Operations Center, c/o The Dixon Group, Inc., ATTN: Children's Bureau, 118 Q Street, NE., Washington, DC 20002-2132.

Applications hand-carried by applicants, applicant couriers, or by other representatives of the applicant shall be considered as meeting an announced deadline if they are received on or before the deadline date, between the hours of 8 a.m. and 4:30 p.m., e.s.t., at ACYF Operations, The Dixon Group, ATTN: Children's Bureau, 118 Q Street, NE., Washington, DC 20002-2132, between Monday and Friday (excluding Federal holidays). This address must appear on the envelope/package containing the application with the note “ATTN: Children's Bureau.” Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms
What to submit | Required content | Required form or format | When to submit
1. SF424 | Per required form | May be found at http://www.acf.hhs.gov/programs/ofs/grants/form.htm | See application due date.
2. SF424A | Per required form | May be found at http://www.acf.hhs.gov/programs/ofs/grants/form.htm | See application due date.
3.a. SF424B | Per required form | May be found at http://www.acf.hhs.gov/programs/ofs/grants/form.htm | See application due date.
3.b. Certification regarding lobbying | Per required form | May be found at http://www.acf.hhs.gov/programs/ofs/grants/form.htm | See application due date.
3.c. Disclosure of Lobbying Activities (SF-LLL) | Per required form | May be found at http://www.acf.hhs.gov/programs/ofs/grants/form.htm | See application due date.
4. Project Summary Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 50 pages total including all forms and attachments. Submit one original and two copies | See application due date.

Additional Forms

Private-non-profit organizations may submit with their applications the additional survey located under “Grant Related Documents and Forms” titled “Survey for Private, Non-Profit Grant Applicants.”

What to submit | Required content | Required form or format | When to submit
Survey for Private, Non-Profit Grant Applicants | Per required form | May be found at http://www.acf.hhs.gov/programs/ofs/grants/form.htm | See application due date.

4. Intergovernmental Review

State Single Point of Contact (SPOC)

This program is covered under Executive Order (E.O.) 12372, “Intergovernmental Review of Federal Programs”, and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Because this is a training grant, indirect costs for these projects shall not exceed 8 percent. Funds from this grant cannot be used to match title IV-E training funds.

6. Other Submission Requirements

Submission by Mail: An applicant must provide an original application with all attachments, signed by an authorized representative and two copies. The application must be received at the address below by 4:30 p.m. eastern standard time (e.s.t.) on or before the closing date. Applications should be mailed to: ACYF Operations Center, c/o The Dixon Group, Inc., ATTN: Children's Bureau, 118 Q Street, NE., Washington, DC 20002-2132.

For Hand Delivery: Applicant must provide an original application with all attachments, signed by an authorized representative and two copies. The application must be received at the address below by 4:30 p.m. eastern standard time (e.s.t.) on or before the closing date. Applications that are hand delivered will be accepted between the hours of 8 a.m. and 4:30 p.m., Monday through Friday. Applications may be delivered to: ACYF Operations Center, c/o The Dixon Group, Inc., ATTN: Children's Bureau, 118 Q Street, NE., Washington, DC 20002-2132. It is strongly recommended that applicants obtain documentation that the application was hand delivered on or before the closing date. Applicants are cautioned that express/overnight mail services do not always deliver as agreed.

Electronic Submission: Please see Section IV.2. Content and Form of Application Submission, for guidelines and requirements when submitting applications electronically.

V. Application Review Information

The Paperwork Reduction Act of 1995 (Pub. L. 104-13)

Public reporting burden for this collection of information is estimated to average 40 hours per response, including the time for reviewing instructions, gathering and maintaining the data needed and reviewing the collection information. The project description is approved under OMB control number 0970-0139 which expires 3/31/2004. An agency may not conduct or sponsor, and a person is not required to respond to, a collection of information unless it displays a currently valid OMB control number.

Instruction

Introduction

Applicants required to submit a full project description shall prepare the project description statement in accordance with the following instructions and the specified evaluation criteria. The instructions give a broad overview of what your project description should include while the evaluation criteria expands and clarifies more program-specific information that is needed.

1. Criteria

General Instruction for Preparing Full Project Description

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Specific Evaluation Criteria

The following criteria will be used to review and evaluate each application. The applicant should address each criterion in the project description. The point values (summing up to 100) indicate the maximum numerical weight each criterion will be accorded in the review process.

Criterion 1. Objectives and Need for Assistance

In reviewing the objectives and need for assistance, the following factors will be considered: (20 points)

(1) The extent to which the application demonstrates a thorough understanding of the need for a specific curriculum and training to strengthen child welfare supervisors' capacity to prepare and guide staff in their work with older youth involved in the child welfare system.

(2) The extent to which the application demonstrates a thorough knowledge and understanding of the issues faced by older youth involved in the child welfare system and appropriate intervention approaches for working with these youth.

(3) The extent to which the proposed project's goals (end products of an effective project) and objectives (measurable steps for reaching these goals) clearly and appropriately relate to the training needs of public child welfare agency frontline workers and supervisory staff.

(4) The extent to which the proposed project would produce significant results and benefits by developing, field testing, delivering, evaluating and disseminating a youth-focused training curriculum for supervisors.

(5) The extent to which an appropriate group of trainees and a reasonable number of trainees will be trained over the life of the project.

(6) The extent to which the lessons learned from the project will clearly and significantly benefit policy, practice and theory development in addressing older youth's transition needs, issues and crises.

Criterion 2. Approach

In reviewing the approach, the following factors will be considered: (50 points)

(1) The extent to which there is a reasonable timeline for effectively implementing the proposed project, including major milestones and target dates. The extent to which the project will complete the development, field testing and revisions of the training program in a timely manner and conduct a thorough evaluation of its effectiveness within the 3-year project time frame.

(2) The extent to which the application proposes development of appropriate materials and provides for effective training under the proposed project.

(3) The extent to which the application demonstrates a thorough knowledge and understanding of the issues related to interventions with older youth and differences and similarities between youth-centered and family-centered practice. The extent to which the application demonstrates a thorough understanding of these issues in terms of the Adoption and Safe Families Act goals of safety, permanency and well-being of older youth and the results of the Child and Family Service Reviews.

(4) The extent to which the application evidences a thorough knowledge and understanding of the challenges of providing and improving training for supervisors within a public child welfare agency. The extent to which the proposed project would successfully overcome these challenges.

(5) The extent to which the proposed approach to developing a curriculum is soundly based on an appropriate conceptual framework, research and practice experience. The extent to which this curriculum would build on, expand and strengthen the existing curriculum approaches/models that emphasize youth-focused services.

(6) The extent to which the application evidences a thorough knowledge and understanding of the four core principles (youth development, cultural competence, collaboration, and permanent connections) and the challenges attendant to incorporating these principles within child welfare practices.

(7) The extent to which the curriculum development and training of supervisors will be culturally responsive to the diverse child welfare population.

(8) The extent to which appropriate criteria would be utilized for selection and recruitment of trainees and specific strategies for recruiting minority and Tribal agency trainees.

(9) The extent to which there is a sound plan for evaluating the training curriculum. The extent to which there is a sound plan for field-testing the effectiveness of the competency-based curriculum and modifying the curriculum, if necessary. The extent to which the applicant clearly identifies and justifies the location of the project and the State/local child welfare agencies where the proposed curriculum will be field-tested.

(10) The extent to which there is a sound plan for dissemination of the curriculum and project evaluation findings.

(11) The extent to which there is a sound plan for continuing this project beyond the period of Federal funding.

Criterion 3. Organizational Profiles

In reviewing the organizational profiles, the following factors will be considered: (20 points)

(1) The extent to which the application demonstrates sufficient organizational capability and experience in developing training curricula and providing training to child welfare agency staff in the area of youth-focused services.

(2) The extent to which the project director, other key staff, partners and consultants have the necessary knowledge, capabilities and experience to develop the proposed training curriculum and manage the project effectively (e.g. resumes). The extent to which the author of this proposal will be involved throughout the implementation of the proposed project.

(3) The extent to which past and/or current collaboration between the applicant and the public (State/local and tribal) agencies in training of child welfare staff would strengthen this project. The extent to which this project will be strengthened by building on existing partnerships with such agencies. The extent to which the applicant includes interagency agreements and commitments from the participating entities.

(4) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points)

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. They will be interested in your plans for sustaining your project without Federal funds if the evaluation findings are supportive. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on unserved or inadequately served clients or service areas and programs addressing diverse ethnic populations.

3. Other

Anticipated Announcement and Award Dates: Applications will be reviewed during Summer 2004. Grant awards will have a start date no later than September 30, 2004.

VI. Award Administration Information

1. Award Notices

Successful applicants will receive a Financial Assistance Award which will set forth the amount of funds granted, the terms and conditions of the grant or cooperative agreement, the effective date of the grant, the budget period for which initial support will be given, the non-Federal share to be provided, if applicable, and the total project period for which support is contemplated. The Grants Management Office signs and issues the award notice.

The Commissioner will notify organizations in writing when their applications will not be funded. Every effort will be made to notify all unsuccessful applicants as soon as possible after final decisions are made.

2. Administrative and National Policy Requirements

45 CFR Part 74 and 45 CFR Part 92

Faith-based organizations that receive funding may not use Federal financial assistance, including funds, to meet any cost-sharing requirements or to support inherently religious activities, such as worship, religious instruction, or prayer.

3. Reporting

Reporting Requirements: Programmatic Reports and Financial Reports are required semi-annually with final reports due 90 days after project end date. All required reports will be submitted in a timely manner, in recommended formats (to be provided), and the final report will also be submitted on disk or electronically using a standard word-processing program.

Within 90 days of project end date, the applicant will submit a copy of the final report, the evaluation report, and any program products to the National Clearinghouse on Child Abuse and Neglect, 330 C Street, SW., Washington, DC 20447. This is in addition to the standard requirement that the final program and evaluation report must also be submitted to the Grants Management Specialist and the Federal Project Officer.

VII. Agency Contacts

Program Office Contact

Pam Johnson, 330 C St. SW., Washington, DC 20447, 202-205-8086, pjohnson@acf.hhs.gov.

Grants Management Office Contact

William Wilson, 330 C Street, SW., Washington, DC 20447, 202-205-8913, wwilson@acf.hhs.gov.

General

The Dixon Group, ACYF Operations Center, 118 Q Street, NE., Washington, DC 20002-2132, Telephone: (866) 796-1591.

VIII. Other Information

Additional information about this program and its purpose can be located on the following Web site: http://www.acf.hhs.gov/programs/cb/.

Copies of the following Forms, Assurances, and Certifications are available online at http://www.acf.hhs.gov/programs/ofs/grants/form.htm.

Standard Form 424: Application for Federal Assistance;

Standard Form 424A: Budget Information;

Standard Form 424B: Assurances—Non-Construction Programs;

Form LLL: Disclosure of Lobbying;

Certification Regarding Environmental Tobacco Smoke;

Standard Form 310: Protection of Human Subjects.

The State Single Point of Contact SPOC listing is available on line at http://www.whitehouse.gov/omb/grants/spoc.html.

Dated: April 9, 2004.
Frank Fuentes,
Deputy Commissioner, Administration on Children, Youth and Families.

[FR Doc. 04-8784 Filed 4-16-04; 8:45 am]

BILLING CODE 4184-01-P